FEDERAL COMMUNICATIONS COMMISSION

47 CFR Part 73

[DA 08-1404; MB Docket No. 06-11; RM-11304]

Radio Broadcasting Services; Crowell, TX

AGENCY: Federal Communications Commission.

ACTION: Proposed rule; dismissal.

SUMMARY: The Audio Division, at the request of LKCM Radio Licenses, LP, licensee of FM Station KFWR, Mineral Wells, Texas, and Fort Worth Media Group, GP, LLC, licensee of FM Station KYBE, Frederick, Oklahoma, together proponents of a petition for reconsideration and of a counterproposal, previously dismissed in the Report and Order in this proceeding, dismisses the petition for reconsideration and the counterproposal and terminates the proceeding.

FOR FURTHER INFORMATION CONTACT: Deborah Dupont, Media Bureau, (202) 418-2180.

SUPPLEMENTARY INFORMATION: This is a synopsis of the Commission's Memorandum Opinion and Order, MB Docket No. 06-11, adopted June 11, 2008, and released June 13, 2008. The full text of this Commission decision is available for inspection and copying during normal business hours in the FCC's Reference Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Memorandum Opinion and Order is not subject to the Congressional Review Act. (The Commission, is, therefore, not required to submit a copy of this Report and Order to GAO, pursuant to the Congressional Review Act, see U.S.C. 801(a)(1)(A) because the proposed rule was dismissed.)

List of Subjects in 47 CFR Part 73

Radio, Radio broadcasting.

Federal Communications Commission.
John A. Karousos,
Assistant Chief, Audio Division, Media Bureau.

[FR Doc. E8-14646 Filed 6-27-08; 8:45 am]

BILLING CODE 6712-01-P